DEPARTMENT OF ENERGY

Federal Energy Regulatory Commission

[Project No. 2179-043]

Merced Irrigation District; Notice of Application Tendered for Filing With the Commission and Establishing Procedural Schedule for Licensing and Deadline for Submission of Final Amendments

Take notice that the following hydroelectric application has been filed with the Commission and is available for public inspection.

a. Type of Application: New License.

b. Project No.: 2179-043.

c. Date Filed: February 27, 2012.

d. Applicant: Merced Irrigation District (MID).

e. Name of Project: Merced River Hydroelectric Project.

f. Location: The existing project is located on the Merced River in Merced and Mariposa counties, California. The project would occupy 3,152.9 acres of federal land managed by the Bureau of Land Management.

g. Filed Pursuant to: Federal Power Act, 16 U.S.C. 791(a)-825(r).

h. Applicant Contact: Merced Irrigation District, P.O. Box 2288, Merced, CA 95344; Telephone (209) 722-5761.

i. FERC Contact: Matt Buhyoff, (202) 502-6824 or matt.buhyoff@ferc.gov.

j. This application is not ready for environmental analysis at this time.

k. The Project Description:

The project consists of two developments:

New Exchequer Development—(1) New Exchequer Dam—a 490 feet-high dam with a crest length of 1,220 feet and a crest elevation of 879 feet; (2) an ogee-type concrete spillway located about one mile north of New Exchequer dam in a saddle; (3) an earth and rock dike 62-feet-high and 1,500-feet-long, located in a saddle about 0.75 mile north of New Exchequer Dam; (4) Lake McClure—a reservoir formed by New Exchequer dam with normal maximum water surface elevation of 867 feet above mean sea level, a gross storage capacity of 1,024,600 acre-feet, a surface area of 7,110 acres, and a shoreline length of about 82 miles; (5) a diversion facility composed of an intake, tunnel and penstock; (6) a 94.5 feet-long, 108-inch-diameter steel pipe from New Exchequer power tunnel to Merced River north of New Exchequer powerhouse; (7) a semi-outdoor, above-ground, concrete powerhouse located at the base of New Exchequer dam on the south side of Merced River; (8) a switchyard located adjacent to New Exchequer Powerhouse and; (9) four developed recreation facilities (McClure Point, Barrett Cove, Horseshoe Bend, and Bagby) with 515 camping units, 4 boat launch facilities, boat rentals, showers, 28 comfort stations, 3 swimming lagoons, 2 marinas, gas and oil service stations, 186 water-electrical campsite hookups, washers and dryers, 117 picnic units and fish cleaning stations.

McSwain Development—(1) McSwain Dam—located 6.3 River Miles downstream from New Exchequer dam, McSwain is an 80 feet-high embankment structure, with a crest length of 1,620 feet and a crest elevation of 425 feet; (2) an ungated concrete overflow spillway located in a flat ridge on the southeast side of McSwain dam. The spillway includes two sections: a 150-feet-long section with a crest elevation at 402 feet, and a 475-feet-long section with a crest elevation at 400 feet; (3) McSwain Reservoir—a 4.8 mile long reservoir with a normal maximum water surface elevation at 400 feet above mean sea level, a gross storage capacity of 9,730 acre-feet of water, a surface area of 310 acres, and a shoreline length of about 12.5 miles; (4) a diversion facility composed of an intake, conduit and penstock; (5) a 160 feet-long, 96-inch diameter steel pipe from the McSwain power tunnel intake to Merced River north of McSwain powerhouse. The bypass releases directly into Pacific Gas and Electric Company's (PG&E) Merced Falls reservoir (P-2467); (6) an outdoor, above-ground, concrete powerhouse located at the base of McSwain dam on the north side of the Merced River. The Powerhouse releases directly into PG&E's Merced Falls reservoir; (7) a switchyard located adjacent to McSwain powerhouse, and; (8) one developed recreation facility with 99 camping units, 1 boat launch facility, boat rentals, showers, 5 comfort stations, a swimming lagoon, marina, gas and oil, 65 water-electrical campsite hookups, washers and dryers, 48 picnic units, a concession store, and fish cleaning stations.

The Merced River Project has a dependable capacity of 103.5 MW and an annual average generation of approximately 385 gigawatt-hours. MID is not proposing any structural changes to the project. However, MID is proposing to remove from the project, but retain in operation outside the license, seven water delivery facilities, which function, in part, to deliver water to a wildlife refuge. MID is also proposing capital improvements to recreation areas at 5 existing recreation sites, as well as the development of a new non-motorized recreation area along the west shore of Lake McClure.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis (when FERC approved studies are complete) | November 2013.
Filing of recommendations, preliminary terms and conditions, and fishway prescriptions | January 2014.
Commission issues Draft EA or EIS | July 2014.
Comments on Draft EA or EIS | August 2014.
Modified Terms and Conditions | November 2014.
Commission Issues Final EA or EIS | February 2015.

o. Final amendments to the application must be filed with the Commission no later than 30 days from the issuance date of the notice of ready for environmental analysis.

Dated: March 12, 2012.
Kimberly D. Bose,
Secretary.

[FR Doc. 2012-6402 Filed 3-15-12; 8:45 am]

BILLING CODE 6717-01-P